SECURITIES AND EXCHANGE COMMISSION

Sunshine Act Meeting

Notice is hereby given, pursuant to the provisions of the Government in the Sunshine Act, Public Law 94-409, that the Securities and Exchange Commission will hold an Open Meeting on February 24, 2010 at 10 a.m., in the Auditorium, Room L-002.

Commissioner Casey, as duty officer, determined that no earlier notice thereof was possible.

The subject matter of the Open Meeting will be:

Item 1: The Commission will consider whether to adopt amendments to Rules 201 and 200(g) of Regulation SHO relating to short sale restrictions.

Item 2: The Commission will consider whether to publish a statement regarding its continued support for a single-set of high-quality globally accepted accounting standards and its ongoing consideration of incorporating International Financial Reporting Standards into the financial reporting system for U.S. issuers.

At times, changes in Commission priorities require alterations in the scheduling of meeting items.

For further information and to ascertain what, if any, matters have been added, deleted or postponed, please contact:

The Office of the Secretary at (202) 551-5400.

Dated: February 19, 2010.
Elizabeth M. Murphy,
Secretary.

[FR Doc. 2010-3792 Filed 2-22-10; 11:15 am]

BILLING CODE 8011-01-P